DEPARTMENT OF THE TREASURY

Bureau of Alcohol, Tobacco and Firearms

[Docket No. 940; ATF O 1130.12]

Delegation of the Director's Authorities in 27 CFR Part 251, Importation of Distilled Spirits, Wines, and Beer

To: All Bureau Supervisors

1. Purpose

This order delegates certain authorities of the Director to subordinate ATF officials and prescribes the subordinate ATF officials with whom persons file documents which are not ATF forms.

2. Background

Under current regulations, the Director has authority to take final action on matters relating to procedure and administration. The Bureau has determined that certain of these authorities should, in the interest of efficiency, be delegated to a lower organizational level.

3. Cancellation

ATF O 1100.86A, Delegation Order—Delegation to the Associate Director (Compliance Operations) of Authorities of the Director in 27 CFR part 251, Importation of Liquors, dated 4/12/84, is canceled.

4. Delegations

Under the authority vested in the Director, Bureau of Alcohol, Tobacco and Firearms, by Treasury Department Order No. 120-01 (formerly 221), dated June 6, 1972, and by 26 CFR 301.7701-9, this ATF order delegates certain authorities to take final action prescribed in 27 CFR part 251 to subordinate officials. Also, this ATF order prescribes the subordinate officials with whom applications, notices, and reports required by 27 CFR part 251, which are not ATF forms, are filed. The attached table identifies the regulatory sections, authorities and documents to be filed, and the authorized ATF officials. The authorities in the table may not be redelegated.

5. Questions

If you have questions about this order, contact the Regulations Division (202-927-8210).

Bradley A. Buckles,
Director.

Regulatory section | Officer(s) authorized to act or receive document
§ 251.2(a) | Chief, Regulations Division.
§ 251.11—Liquor bottle definition | Specialist, Alcohol Labeling and Formulation Division (ALFD).
§ 251.77(d) | Section Chief, National Revenue Center (NRC).
§ 251.136(a) | Area Supervisor to approve alternate location. Inspector, Specialist, Auditor or Special Agent to examine documents.
§ 251.137 | Inspector, Specialist, Auditor or Special Agent to examine and copy records. Director of Industry Operations to require additional retention.
§ 251.172 | Unit Supervisor, NRC.
§ 251.181(a) | Unit Supervisor, NRC.
§ 251.182(b)(1) and (d) | Unit Supervisor, NRC.
§ 251.204 | Specialist, ALFD.
§ 251.206 | Specialist, ALFD.
§ 251.208 | Area Supervisor.
§ 251.209 | Unit Supervisor, NRC.
§ 251.221 | Chief, Regulations Division to approve. If the alternate method or procedure does not affect an ATF approved formula, or import or export recordkeeping, Chief, National Revenue Center (NRC) may act upon the same alternate method that has been approved by the Chief, Regulations Division. Chief, Regulations Division, Chief, National Revenue Center or Area Supervisor to withdraw.

BILLING CODE 4810-31-P

[FR Doc. 02-5881 Filed 3-12-02; 8:45 am]

BILLING CODE 4810-31-C